DEPARTMENT OF DEFENSE

Department of the Air Force

[Docket ID USAF-2013-0009]

Privacy Act of 1974; System of Records

AGENCY: Department of the Air Force, DoD.

ACTION: Notice to alter a System of Records.

SUMMARY: The Department of the Air Force proposes to alter a system of records notice in its existing inventory of records systems subject to the Privacy Act of 1974 (5 U.S.C. 552a), as amended.

DATES: This proposed action will be effective on April 5, 2013 unless comments are received which result in a contrary determination. Comments will be accepted on or before April 4, 2013.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act, as amended, were submitted on January 30, 2013 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: February 28, 2013.
Aaron Siegel,
Alternate OSD Federal Register Liaison Officer, Department of Defense.

F036 AF PC J

System Name:

Absentee and Deserter Information Files (June 11, 1997, 62 FR 31793).

Changes:

System ID:

Delete entry and replace with “F036 AFPC G.”

* * * * *

System location:

Delete entry and replace with “Air Force Personnel Center (AFPC), Missing Persons Division, 550 C Street West, Suite 14, Randolph Air Force Base, TX 78150-4716;

Air Reserve Personnel Center, Denver, 18420 East Silver Creek Avenue, Building 390, 68 Buckley Air Force Base, CO 80011-9502;

National Personnel Records Center, Military Personnel Branch, 1 Archives Drive, St. Louis, MO 63138-1002.”

Categories of individuals covered by the system:

Delete entry and replace with “Air Force active duty, Reserve, Air National Guard personnel who have been identified as being absent without leave or deserter.”

Categories of records in the system:

Delete entry and replace with “Name, Social Security Number (SSN), Department of Defense Identification Number (DoD ID Number), Rank/Grade, date of birth, place of birth, height, weight, eye color, hair color, residence address, organization and installation, branch of service, sex, race, ethnicity, current enlistment, time of absence, administrative date of desertion, operator's driver license and member's vehicle information; information currently on file pertaining to family members or associates of the deserter or absentee, circumstance of absentee's return and disposition, organization's commander signature.”

Authority for maintenance of the system:

Delete entry and replace with “10 U.S.C., 8013, Secretary of the Air Force; 10 U.S.C. Sections 885, Desertion, 886, Absence Without Leave, and 887, Missing Movement (UCMJ Articles 85, 86, and 87); DoDD 1325.2, Desertion and Unauthorized Absence; Air Force Instruction 36-2911, Desertion and Unauthorized Absence; and E.O. 9397 (SSN), as amended.”

Purpose(s):

Delete entry and replace with “To support the Air Force Unauthorized Absence (Absent Without Leave/Deserter) Program. Used to ensure positive identification and expeditious reporting of service members who have been classified as Absent Without Leave (AWOL)/Deserters to law enforcement, financial, and leadership in order to return members to military custody. Documents commander's actions which may be used for support in personnel and pay actions.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses published at the beginning of the Air Force's compilation of systems of records notices may apply to this system.”

Policies and practices for storing, retrieving, accessing, retaining, and disposing of records in the system:

Storage:

Delete entry and replace with “Paper records maintained in file folders, binders, and electronic storage media.”

Retrievability:

Delete entry and replace with “Name, SSN and/or DoD ID number.”

Safeguards:

Delete entry and replace with “Files are accessed by Air Force AWOL/Deserter Program Manager and personnel cleared for need-to-know. Records are stored in file cabinets in buildings that are either locked or have controlled access entry requirements. Electronic files are accessed by authorized personnel only who have a secure Common Access Card (CAC) and an official need-to-know.”

Retention and disposal:

Delete entry and replace with “DD Form 553, Deserter/Absentee Wanted by the Armed Forces and related records are maintained until absentee is returned to military control, then DD Form 616, Report of Return of Absentee, is accomplished; both forms are then filed in Master Personnel Record Group for permanent retention. Paper records are destroyed after electronic copy has been created and filed or when no longer needed for revision, dissemination, or reference, whichever is later.

Electronic records replace temporary paper records and are created using electronic mail and word processing. Electronic records are destroyed when the agency determines records are superseded, obsolete, or no longer needed for administrative, legal, audit, or other operational purposes.”

System manager(s) and address:

Delete entry and replace with “Air Force Absent without Leave/Deserter Program Manager, Air Force Personnel Center, Missing Persons Division, 550 C Street West, Suite 14, Randolph Air Force Base, TX 78150-4716.”

Notification procedure:

Delete entry and replace with “Individuals seeking to determine whether information about themselves is contained in this system should address written inquiries to Air Force AWOL/Deserter Program Manager, Air Force Personnel Center, Missing Persons Division, 550 C Street West, Suite 14, Randolph Air Force Base, TX 78150-4716.

For verification purposes, individual should provide their full name, SSN and/or DoD ID Number, any details which may assist in locating records, and their signature.

In addition, the requester must provide a notarized statement or an unsworn declaration made in accordance with 28 U.S.C., 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system should address written inquiries to AWOL/Deserter Program Manager, Air Force Personnel Center, Missing Persons Division, 550 C Street West, Suite 14, Randolph Air Force Base, TX 78150-4716.

For verification purposes, individual should provide their full name, SSN and/or DoD ID Number, any details which may assist in locating records, and their signature.

In addition, the requester must provide a notarized statement or an unsworn declaration made in accordance with 28 U.S.C., 1746, in the following format:

If executed outside the United States:

`I declare (or certify, verify, or state) under penalty of perjury under the laws of the United States of America that the foregoing is true and correct. Executed on (date). (Signature)'.

If executed within the United States, its territories, possessions, or commonwealths: `I declare(or certify, verify, or state) under penalty of perjury that the foregoing is true and correct. Executed on (date). (Signature)'.”

* * * * *

Record source categories:

Delete entry and replace with “Information is obtained from the Air Force Military Personnel Data System; Unit Commanders/First Sergeants; Force Support Squadron representatives; military and civilian law enforcement officials; DD Form 553, Deserter/Absentee Wanted by the Armed Forces; DD Form 616, Report of Return of Absentee; and anyone who may report information concerning an absentee wanted by the Armed Forces.”

* * * * *

[FR Doc. 2013-05031 Filed 3-4-13; 8:45 am]

BILLING CODE 5001-06-P